DEPARTMENT OF HEALTH AND HUMAN SERVICES

Agency for Toxic Substance and Disease Registry

[60Day-18-18AJA; Docket No. ATSDR-2018-0005]

Proposed Data Collection Submitted for Public Comment and Recommendations

AGENCY: Agency for Toxic Substances and Disease Registry (ATSDR), Department of Health and Human Services (HHS).

ACTION: Notice with comment period.

SUMMARY: The Agency for Toxic Substances and Disease Registry (ATSDR), as part of its continuing effort to reduce public burden and maximize the utility of government information, invites the general public and other Federal agencies the opportunity to comment on a proposed and/or continuing information collection, as required by the Paperwork Reduction Act of 1995. This notice invites comment on a proposed information collection project titled “Environmental Health and Land Reuse Certification” This certification is a joint collaboration with National Environmental Health Association (NEHA); ATSDR will jointly co-produce the course with NEHA.

DATES: Written comments must be received on or before August 27, 2018.

ADDRESSES: You may submit comments, identified by Docket No. ATSDR-2018-0005 by any of the following methods:

• Federal eRulemaking Portal: Regulations.gov. Follow the instructions for submitting comments.

• Mail: Jeffrey M. Zirger, Information Collection Review Office, Centers for Disease Control and Prevention, 1600 Clifton Road NE, MS-D74, Atlanta, Georgia 30329.

Instructions: All submissions received must include the agency name and Docket Number. ATSDR will post, without change, all relevant comments to Regulations.gov.

Please note: Submit all Federal comments through the Federal eRulemaking portal (regulations.gov) or by U.S. mail to the address listed above.

FOR FURTHER INFORMATION CONTACT: To request more information on the proposed project or to obtain a copy of the information collection plan and instruments, contact Jeffrey M. Zirger, Information Collection Review Office, Centers for Disease Control and Prevention, 1600 Clifton Road NE, MS-D74, Atlanta, Georgia 30329; phone: 404-639-7570; Email: omb@cdc.gov.

SUPPLEMENTARY INFORMATION: Under the Paperwork Reduction Act of 1995 (PRA) (44 U.S.C. 3501-3520), Federal agencies must obtain approval from the Office of Management and Budget (OMB) for each collection of information they conduct or sponsor. In addition, the PRA also requires Federal agencies to provide a 60-day notice in the Federal Register concerning each proposed collection of information, including each new proposed collection, each proposed extension of existing collection of information, and each reinstatement of previously approved information collection before submitting the collection to OMB for approval. To comply with this requirement, we are publishing this notice of a proposed data collection as described below.

The OMB is particularly interested in comments that will help:

1. Evaluate whether the proposed collection of information is necessary for the proper performance of the functions of the agency, including whether the information will have practical utility;

2. Evaluate the accuracy of the agency's estimate of the burden of the proposed collection of information, including the validity of the methodology and assumptions used;

3. Enhance the quality, utility, and clarity of the information to be collected; and

4. Minimize the burden of the collection of information on those who are to respond, including through the use of appropriate automated, electronic, mechanical, or other technological collection techniques or other forms of information technology, e.g., permitting electronic submissions of responses.

5. Assess information collection costs.

Proposed Project

Environmental Health and Land Reuse Certification—New—ICR—Agency for Toxic Substances and Disease Registry (ATSDR).

Background and Brief Description

The Agency for Toxic Substances and Disease Registry (ATSDR) is requesting a three-year Paperwork Reduction Act (PRA) Clearance for a new Information Collection Request (ICR) entitled “Environmental Health and Land Reuse Certification.” The specific activities of the ICR request are for a course registration process and one-time participant follow up. This information collection is funded through a contract with the National Environmental Health Association (NEHA), number 200-2013-57475.

The purpose of the information collection is to allow environmental health professionals to register for courses and evaluate the impact of certification program in environmental health and land reuse work. The certification is geared to meet the following objectives:

• Increase participant awareness and knowledge of environmental health and land reuse;

• Increase skills and capacity of participants to engage in environmental health and land reuse work; and

• Assess participant feedback and assessment of their own increased awareness, skills, and knowledge in environmental health and land reuse.

ATSDR will use data from this information collection to assess the impact of participating in the certification, such as increased capacity to perform their work. Ultimately, ATSDR is interested in long-term benefits of the certification, such as state health partners engaging more frequently in land reuse and redevelopment projects. The certification consists of online learning content in NEHA's Learning Management System. The content includes topics in Risk Assessment, Risk Communication, Epidemiology, Toxicology, and Land Reuse and Redevelopment.

Through this information collection, ATSDR would like to determine the utility and effectiveness of the certification course content. Subsequently, ATSDR will analyze the data provided by NEHA regarding participants' job titles (e.g., LHD staff, environmental consultant, or other), the pre- and post-testing built-in components of the certification course, and a one-time collection of feedback (e.g., within 6-11 months after participation) on use of the certification materials and resources to build their capacity and skills in environmental health and land reuse.

The respondents for the certification course will largely be environmental professionals; students of environmental science, public health, or planning; and local or state health agency professionals. ATSDR may use Excel or other spreadsheet software to characterize certification course participants (e.g., by job title) and to summarize their feedback on the course content and effectiveness.

In summary, the registration and feedback information will help ATSDR determine impacts of the certification course in building capacity and skills in environmental health and land reuse. Without this information, ATSDR will not be able to assess the effectiveness of the certification in terms of building participants' capacity in environmental health and land reuse activities. In addition, ATSDR can generalize feedback from course participants to create new materials that can support additional capacity-building for health agencies to increase their involvement in environmental health and land reuse activities.

This information collection will occur through an ongoing, online portal hosted by NEHA's standardized course registration process and their standardized feedback using Survey Monkey one time within a 12-month period. NEHA will collect feedback data about the certification course. The feedback data will center around participant's assessment of their own potentially increased skills in environmental health and land reuse as a result of the certification and use of subsequent certification components. Participation in this proposed information collection is voluntary. There is no cost to respondents other than their time. The total burden is estimated to be 100 hours.

Estimated Annualized Burden Hours
Type of respondents | Form name | Number of respondents | Number of responses per respondent | Average burden per response (in hours) | Total burden (in hours)
Environmental health professionals and graduate students | Online Regis-tration Survey | 200 | 1 | 10/60 | 33
Environmental health professionals and graduate students | Follow-up Survey | 200 | 1 | 20/60 | 67
Total |  |  |  |  | 100

Jeffrey M. Zirger,
Acting Chief, Information Collection Review Office, Office of Scientific Integrity, Office of the Associate Director for Science, Office of the Director, Centers for Disease Control and Prevention.

[FR Doc. 2018-13793 Filed 6-26-18; 8:45 am]

BILLING CODE 4163-18-P